DEPARTMENT OF DEFENSE

Department of the Army

Availability of the Final Draft Environmental Assessment for the Construction of a Building Addition To Accommodate the U.S. Army Intelligence and Security Command Information Dominance Center

AGENCY: Department of the Army, DoD.

ACTION: Notice of availability.

SUMMARY: The United States Army Intelligence and Security Command has prepared an Environmental Assessment (EA) of the potential environmental consequences of constructing a new U.S. Army Intelligence and Security Command Information Dominance Center (IDC) building addition at a previously developed site on Fort Belvoir, VA. This Environmental Assessment has been prepared pursuant to the National Environmental Policy Act (NEPA); the Council on Environmental Quality regulations implementing the NEPA; Department of Defense (DoD) Directive 6050.1; Environmental Effects in the United States of DoD Actions; and instructions implementing NEPA.

The U.S. Army Intelligence and Security Command (INSCOM) has identified a requirement to construct a building addition to accommodate its IDC. Construction and operation of the IDC facility conforms to Fort Belvoir's current Master Planning strategy. HQ INSCOM and Fort Belvoir have thoroughly reviewed the Proposed Action, Action Alternatives, a No Action Alternative to the Proposed Action, and environmental consequences associated with each. Based on this review and consideration of all relevant factors, HQ INSCOM and Fort Belvoir have determined and concluded that the Proposed Action will not have direct, indirect, or cumulatively significant impacts on the surrounding human environment. An Environmental Impact Statement, therefore, is not required and will not be prepared. HQ INSCOM and Fort Belvoir will consider public comment and concerns prior to making a final determination to proceed with the proposed action.

INSCOM evaluated six alternatives to meet requirements for an expanded IDC facility. These alternatives included: a no action alternative (status quo); renovation of existing HQ INSCOM facilities; renovation of other government facilities; lease of off-post facilities in the general vicinity of Fort Belvoir; construction of new facilities on Fort Belvoir; and construction of an addition to existing HQ INSCOM facilities on Fort Belvoir. Several possible locations were considered in this evaluation, with each alternative being evaluated for mission support and economic, environmental, and security considerations. It is anticipated that construction will begin in Fiscal Year (FY) 2008. Project completion is anticipated in FY2010.

DATES: The agency must receive comments on or before May 26, 2005.

ADDRESSES: For additional information or to submit written comments, contact Commander, USAINSCOM, 8825 Beulah Street, Building 2444, Attn: IALO-E, Fort Belvoir, VA 22060.

FOR FURTHER INFORMATION CONTACT: Ms. Susan Roeder, Environmental Protection Specialist, (703) 428-4520, e-mail: smroede@inscom.army.mil.

SUPPLEMENTARY INFORMATION: The intent of this project is to provide HQINSCOM with increased space that supports expanding intelligence missions and associated personnel increases, particularly for the IDC. the proposed IDC project provides a multi-story, multi-purpose, 233,000 gross square foot facility, to include all required mechanical, electrical, fire protection, redundant power and information systems. It will also include the installation of physical security and access control systems. A unique requirement of the IDC is its need for larger, open work areas which must also allow the flexibility of periodic reconfiguration. The typical, economical structural design of a 30 foot by 30 foot structural column grid is inadequate for the IDC. A minimum 30′ by 45′ grid is required. Other key components of this facility include the following: secure facility space; specialized operations space; special equipment storage; classrooms; server room; wellness room and showers; cafeteria; mechanical/utility rooms; bathrooms; training area; storage areas; library; office space; and administrative support areas. Other required support facilities to be built include walks, curbs and gutters, surface parking, site improvements, HVAC, and power generation equipment.

The IDC Environmental Assessment is available for public review at Directorate of Installation Support, Environmental and Natural Resource Division (9430 Jackson Loop, Suite 107, Fort Belvoir, VA). It is also available at the following four Fairfax County Public Library local branches: John Marshall Branch (6209 Rose Hill Drive, Alexandria, VA); Lorton Branch (9520 Richmond Hwy., Lorton, VA); Sherwood Hall Branch (2501 Sherwood Hall Lane, Alexandria, VA); and Kingstowne Branch (6500 Landsdowne Centre, Alexandria, VA). A copy of this notice and the Environmental Assessment cab be viewed on the World Wide Web at http://www.inscom.army.mil. Interested parties are invited to submit written comments for consideration during the 30-day public comment period which closes on the date specified in DATES above. The proposed action will not be implemented before this date.

Dated: April 19, 2005.
Thomas J. Boyle,
Colonel, GS, Assistant Chief of Staff, G-4.

[FR Doc. 05-8284 Filed 4-25-05; 8:45 am]

BILLING CODE 3710-08-M